DEPARTMENT OF AGRICULTURE

Forest Service

Transfer of Administrative Jurisdiction: Marine Corps Mountain Warfare Training Center Interchange Humboldt-Toiyabe National Forest, CA

AGENCY: Forest Service, USDA.

ACTION: Notice of Joint Jurisdictional Interchange of lands between the Forest Service and the Department of the Navy.

SUMMARY: On October 22, 2012, and March 18, 2013, respectively, the Acting Principal Deputy Assistant Secretary of Navy, Energy, Installations & Environment and the Secretary of Agriculture signed a joint interchange order authorizing the transfer of administrative jurisdiction from the Department of Agriculture to the Department of the Navy for 346.49 acres, more or less located in Mono County, California and generally described as: Portions of Sections 13, 23, and 24, Township 6 North, Range 22 East, Mount Diablo Meridian, lying within the Marine Corps Mountain Warfare Training Center and the Humboldt-Toiyabe National Forest and more particularly described according to the map and legal description on file in the Forest Service office noted below. Furthermore, the order transfers jurisdiction from the Department of the Navy to the Department of Agriculture for inclusion in the Humboldt-Toiyabe National Forest, being 240 acres, more or less located in Mono County, California and generally described as: Portions of Section 14 and 15, Township 7 North, Range 22 East, Mount Diablo Meridian, within the proclamation boundaries of the Humboldt-Toiyabe National Forest, and more particularly described according to the map and legal description on file in the Forest Service office noted below.

DATES: The 45-day Congressional oversight requirement of the Act of July 26, 1956 (70 Stat. 656; 16 U.S.C. 505a, 505b) has been met. The order is effective May 21, 2013.

ADDRESSES: Copies of the maps with adjoining legal descriptions showing the lands included in this joint interchange are on file and available for public inspection in the Office of the Regional Forester, Intermountain Region, USDA, Forest Service, 324 25th Street, Ogden, UT 84401, between the hours of 8:30 a.m. and 4:30 p.m. on business days. Those wishing to inspect the maps with adjoining legal descriptions are encouraged to call ahead to (801) 625-5800.

FOR FURTHER INFORMATION CONTACT: A.L. Richard, Washington Office Lands and Realty Staff, USDA, Forest Service, 201 14th Street SW., Washington, DC 20250, Telephone: (202) 205-1792 or arichard@fs.fed.us.

Dated: May 16, 2013.
Calvin N. Joyner,
Associate Deputy Chief, National Forest System.

[FR Doc. 2013-12155 Filed 5-20-13; 8:45 am]

BILLING CODE 3410-11-P